DEPARTMENT OF HEALTH AND HUMAN SERVICES

Health Resources and Services Administration

Agency Information Collection Activities: Proposed Collection: Public Comment Request; Information Collection Request Title: Assessing the Use of Coaching To Promote Positive Caregiver-Child Interactions in Home Visiting

AGENCY: Health Resources and Services Administration (HRSA), Department of Health and Human Services.

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR should be received no later than February 5, 2024.

ADDRESSES: Submit your comments to paperwork@hrsa.gov or mail the HRSA Information Collection Clearance Officer, Room 14N39, 5600 Fishers Lane, Rockville, Maryland 20857.

FOR FURTHER INFORMATION CONTACT: To request more information on the proposed project or to obtain a copy of the data collection plans and draft instruments, email paperwork@hrsa.gov or call Joella Roland, the HRSA Information Collection Clearance Officer, at (301) 443-3983.

SUPPLEMENTARY INFORMATION: When submitting comments or requesting information, please include the ICR title for reference.

Information Collection Request Title: Assessing the Use of Coaching to Promote Positive Caregiver-Child Interactions in Home Visiting OMB No. 0906-xxxx—[New]

Abstract: The Maternal, Infant, and Early Childhood Home Visiting (MIECHV) Program, authorized by the Social Security Act, title V, § 511 (42 U.S.C. 711) and administered by HRSA in partnership with the Administration for Children and Families, supports voluntary, evidence-based home visiting services during pregnancy and for parents with young children up to kindergarten entry. States, tribal entities, and certain nonprofit organizations are eligible to receive funding from the MIECHV Program and have the flexibility to tailor the program to serve the specific needs of their communities. Funding recipients may subaward grant funds to local implementing agencies to provide home visiting services to eligible families in at-risk communities.

This information collection is part of the Assessing and Describing Practice Transitions Among Evidence-Based Home Visiting Programs in Response to the COVID-19 Public Health Emergency Study. This study aims to identify and study practices implemented in response to the COVID-19 public health emergency that support evidence-based practice and have the potential to enhance home visiting programming. One of the practices the study identified is the use of coaching to promote caregiver-child interactions and positive caregiving skills. Coaching involves a home visitor providing instructions to the parent or caregiver as they carry out the skill and differs from a common home visiting strategy modeling in which home visitors first demonstrate a skill themselves before asking the parent or caregiver to try it. The purpose of this information collection is to better understand, through rapid cycle learning, how MIECHV-funded home visiting programs can implement coaching strategies during home visits.

Information will be collected in four phases designed to (1) define coaching strategies (co-definition phase); (2) identify potential refinements to improve coaching strategies (installation phase); (3) iteratively test the refinements (refinement phase); and (4) assess the potential of coaching strategies to improve service delivery and promote family engagement and family satisfaction with home visiting programs (summary phase). Data collection activities include focus groups, online questionnaires, and review of documents and administrative data.

Need and Proposed Use of the Information: The COVID-19 public health emergency led the MIECHV Program to rapidly adjust practices, within the bounds of evidence-based home visiting model guidance, to reduce service delivery disruptions while protecting the health and safety of home visiting participants and the home visiting workforce. Largely prompted by the shift to virtual home visits, one of these practice changes was to use coaching to promote positive caregiving skills and family-child interactions. Home visitors suggested that using coaching strategies enhanced the way that home visitors worked with families, particularly in virtual settings when home visitors were unable to use modeling strategies (e.g., in-person demonstrations by home visitors). Some findings indicate that home visitors who used coaching perceived that it led to improved family engagement and caregiver confidence in interacting with their child. However, other findings suggest that some families may not prefer coaching over modeling and that coaching may create a burden on home visitors. As home visitors transition back to primarily in-person home visits, there is a need for more information about strategies to support the implementation of coaching to effectively promote positive caregiver-child interactions in virtual and in-person settings, while reducing home visitor burden and increasing family acceptance of this strategy. HRSA intends to use the information collected to provide evidence-informed resources and strategies that MIECHV awardees can use to inform their use of coaching strategies to strengthen home visiting services.

Likely Respondents: Respondents include families who receive home visiting services and MIECHV-funded home visiting program staff, which may include program directors, managers, supervisors, and home visitors.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
Program Eligibility Protocol | 16 | 1 | 16 | 1.00 | 16.0
Program Staff Focus Group Protocol 1 (Co-definition Phase) | 24 | 1 | 24 | 1.50 | 36.0
Program Staff Focus Group Protocol 2 (Co-definition Phase) | 24 | 1 | 24 | 1.50 | 36.0
Program Staff Focus Group Protocol (Installation & Refinement Phases) | 24 | 3 | 72 | 1.00 | 72.0
Program Staff Focus Group Protocol (Summary Phase) | 24 | 1 | 24 | 1.00 | 24.0
Family Focus Group Protocol (Co-definition & Summary Phases) | 48 | 1 | 48 | 1.00 | 48.0
Home Visitor Questionnaire (Installation & Refinement Phases) | 40 | 9 | 360 | 0.17 | 61.2
Family Post-Visit Questionnaire (Refinement Phase) | 48 | 6 | 288 | 0.08 | 23.0
Focus Group Participant Characteristics Form (All Phases) | 120 | 1 | 120 | 0.08 | 9.6
Total | 368 |  | 976 |  | 325.8

HRSA specifically requests comments on (1) the necessity and utility of the proposed information collection for the proper performance of the agency's functions; (2) the accuracy of the estimated burden; (3) ways to enhance the quality, utility, and clarity of the information to be collected; and (4) the use of automated collection techniques or other forms of information technology to minimize the information collection burden.

Maria G. Button,
Director, Executive Secretariat.

[FR Doc. 2023-26581 Filed 12-4-23; 8:45 am]

BILLING CODE 4165-15-P